DEPARTMENT OF AGRICULTURE

Cooperative State Research, Education, and Extension Service

Applications for FY 2002 National Research Initiative Competitive Grants Program

AGENCY: Cooperative State Research, Education, and Extension Service, USDA.

ACTION: Notice of the Availability of the Solicitation for Applications for the Fiscal Year (FY) 2002 National Research Initiative Competitive Grants Program, and Request for Stakeholder Input.

SUMMARY: This notice announces the availability of the FY 2002 solicitation for applications which is titled the “NRI Program Description and Guidelines for Proposal Preparation” for the National Research Initiative (NRI) Competitive Grants Program administered by the Competitive Research Grants and Awards Management Division, Cooperative State Research, Education, and Extension Service (CSREES). The solicitation invites applications for competitive grant awards in agricultural, forest, and related environmental sciences for FY 2002.

By this notice, CSREES also requests stakeholder input regarding the FY 2002 NRI program solicitation from any interested party. These comments will be considered in the development of the next solicitation for this program.

DATES: Proposals must be postmarked on or before the dates provided in the table at the end of this notice.

Comments regarding this solicitation are invited for six months from the issuance of this notice. Comments received after that date will be considered to the extent practicable.

ADDRESSES: The address for hand-delivered proposals or proposals submitted using an express mail or overnight courier service is: NRI; c/o Proposal Services Unit; Cooperative State Research, Education, and Extension Service; U.S. Department of Agriculture; Room 1307, Waterfront Centre; 800 9th Street, SW.; Washington, DC 20024; telephone: 202-205-0241.

Proposals sent via the U.S. Postal Service must be sent to the following address: NRI; c/o Proposal Services Unit; Cooperative State Research, Education, and Extension Service; U.S. Department of Agriculture; STOP 2245; 1400 Independence Avenue, SW.; Washington, DC 20250-2245.

Written stakeholder comments should be submitted by mail to: Policy and Program Liaison Staff; Office of Extramural Programs; USDA-CSREES; STOP 2299; 1400 Independence Avenue, SW.; Washington, DC 20250-2299; or via e-mail to: RFP-OEP@reeusda.gov. (This e-mail address is intended only for receiving comments regarding this solicitation and not for requesting information or forms.) In your comments, please state that you are responding to the FY 2002 NRICGP solicitation for applications.

FOR FURTHER INFORMATION CONTACT: USDA/CSREES/NRI; Stop 2241; 1400 Independence Avenue, SW.; Washington, DC 20250-2241. Phone: (202) 401-5022. E-mail: nricgp@reeusda.gov.

SUPPLEMENTARY INFORMATION:

Table of Contents

Stakeholder Input

Catalog of Federal Domestic Assistance

Authority and Applicable Regulations

Conflicts of Interest

Project Types and Eligibility Requirements

I. Conventional Projects

II. Agricultural Research Enhancement Awards

Funding Categories for FY 2002

Strategic Issues

Research Opportunities

Application Materials

Electronic Subscription to NRI Documents

NRI Deadline Dates

Stakeholder Input

CSREES is requesting comments regarding the FY 2002 NRI solicitation for applications from any interested party. In your comments, please include the name of the program and the fiscal year solicitation for applications to which you are responding. These comments will be considered in the development of the next solicitation for applications for the program. Such comments will be used in meeting the requirements of section 103(c)(2) of the Agricultural Research, Extension, and Education Reform Act of 1998, 7 U.S.C. 7613(c). Comments should be submitted as provided in the “Addresses” and “Dates” portions of this notice.

Catalog of Federal Domestic Assistance

The Catalog of Federal Domestic Assistance number for this program is 10.206.

Authority and Applicable Regulations

The authority for this program is contained in 7 U.S.C. 450i(b). Under this program, subject to the availability of funds, the Secretary may award competitive research grants, for periods not to exceed five years, for the support of research projects to further the programs of the United States Department of Agriculture (USDA).

Regulations applicable to this program include the following: (a) the regulations governing the NRI, 7 CFR part 3411, which set forth procedures to be followed when submitting grant proposals, rules governing the evaluation of proposals and the awarding of grants, and regulations relating to the post-award administration of grant projects; (b) the USDA Uniform Administrative Requirements for Grants and Agreements with Institutions of Higher Education, Hospitals, and Other Non-Profit Organizations, 7 CFR part 3019; (c) the USDA Uniform Federal Assistance Regulations, 7 CFR part 3015; (d) the USDA Uniform Administrative Requirements for Grants and Cooperative Agreements to State and Local Governments, 7 CFR part 3016; and (e) 7 U.S.C. 3103(17), which defines “sustainable agriculture.”

Conflicts of Interest

For the purpose of determining conflicts of interest in accordance with 7 CFR 3411.12, the academic and administrative autonomy of an institution shall be determined by reference to the 2001 Higher Education Directory, published by Higher Education Publications, Inc., 6400 Arlington Boulevard, Suite 648, Falls Church, Virginia 22042. Phone: (703) 532-2305. The internet address is: http://www.hepinc.com/.

Project Types and Eligibility Requirements

The FY 2002 NRI program solicitation solicits proposals for the following types of projects:

I. Conventional Projects

(a) Standard Research Grants: Research will be supported that is fundamental or mission-linked, and that is conducted by individual investigators, co-investigators within the same discipline, or multidisciplinary teams. Any State agricultural experiment station, college, university, other research institution or organization, Federal agency, national laboratory, private organization, corporation, or individual may apply. Proposals submitted by non-United States organizations will not be considered for support.

(b) Conferences: Scientific meetings that bring together scientists to identify research needs, update information, or advance an area of research are recognized as integral parts of research efforts. Any State agricultural experiment station, college, university, other research institution or organization, Federal agency, national laboratory, private organization, corporation, or individual is an eligible applicant in this area. Proposals submitted by non-United States organizations will not be considered for support.

II. Agricultural Research Enhancement Awards

To contribute to the enhancement of research capabilities in the research program areas described herein, the FY 2002 NRI program solicitation solicits applications for Agricultural Research Enhancement Awards. Such applications may be submitted by any State agricultural experiment station, college, university, other research institution or organization, Federal agency, national laboratory, private organization, corporation, or individual; however, further eligibility requirements are defined in 7 CFR 3411.3 and restated in the FY 2002 NRI program solicitation. Applications submitted by non-United States organizations will not be considered for support. However, United States citizens applying as individuals for Postdoctoral Fellowships may perform all or part of the proposed work at a non-United States organization. Agricultural Research Enhancement Awards are available in the following categories:

(a) Postdoctoral Fellowships.

(b) New Investigator Awards.

(c) Strengthening Awards: Institutions in USDA Experimental Program for Stimulating Competitive Research (EPSCoR) entities are eligible for strengthening awards. 7 CFR 3411.2(o) sets forth how EPSCoR entities are determined. For FY 2002, USDA EPSCoR states consist of the following:

Alaska

Arkansas

Connecticut

Delaware

Hawaii

Idaho

Kentucky

Maine

Mississippi

Montana

Nevada

New Hampshire

New Mexico

North Dakota

Rhode Island

South Carolina

South Dakota

Vermont

West Virginia

Wyoming

For FY 2002, other USDA-EPSCoR entities consist of the following:

American Samoa

District of Columbia

Guam

Micronesia

Northern Marianas

Puerto Rico

Virgin Islands

Investigators at small and mid-sized institutions (total enrollment of 15,000 or less) may also be eligible for Strengthening Awards. An institution in this instance is an organization that possesses a significant degree of autonomy. Significant degree of autonomy is defined by being independently accredited as determined by reference to the 2001 Higher Education Directory.

Institutions which are among the most successful universities and colleges for receiving Federal funds for science and engineering research, except those in USDA EPSCoR entities, are ineligible for strengthening awards. The most successful universities and colleges for receiving these funds, excluding those in USDA EPSCoR entities, are as follows:

Baylor College of Medicine

Boston University

California Institute of Technology

Carnegie-Mellon University

Case Western Reserve University

Colorado State University

Columbia University

Cornell University

CUNY Mount Sinai School of Medicine

Duke University

Emory University

Florida State University

Georgia Institute of Technology

Harvard University

Indiana University Purdue University at Indianapolis

Iowa State University

Johns Hopkins University

Massachusetts Institute of Technology

Medical College of Wisconsin

Michigan State University

New York University

North Carolina State University

Northwestern University

Ohio State University

Oregon Health Sciences University

Oregon State University

Pennsylvania State University

Princeton University

Purdue University

Rockefeller University

Rutgers, The State University of New Jersey

Scripps Research Institute

Stanford University

State University of New York at Stony Brook

Thomas Jefferson University

Tufts University

University Corporation for Atmospheric Research

University of Alabama Birmingham

University of Arizona

University of California Berkeley

University of California Davis

University of California Irvine

University of California Los Angeles

University of California San Diego

University of California San Francisco

University of California Santa Barbara

University of Chicago

University of Cincinnati

University of Colorado Boulder

University of Colorado Health Sciences Center

University of Florida

University of Georgia

University of Illinois Urbana-Champaign

University of Illinois Chicago

University of Iowa

University of Maryland Baltimore Prof Sch

University of Maryland College Park

University of Massachusetts Amherst

University of Massachusetts Medical School Worcester

University of Medicine and Dentistry of New Jersey

University of Miami

University of Michigan Ann Arbor

University of Minnesota Twin Cities

University of Missouri Columbia

University of North Carolina Chapel Hill

University of Pennsylvania

University of Pittsburgh

University of Rochester

University of Southern California

University of Texas at Austin

University of Texas Health Science Center Houston

University of Texas Health Science Center San Antonio

University of Texas MD Anderson Cancer Center

University of Texas Medical Branch Galveston

University of Texas SW Medical Center Dallas

University of Utah

University of Virginia

University of Washington

University of Wisconsin Madison

Vanderbilt University

Virginia Polytechnic Institute and State University

Virginia Commonwealth University

Wake Forest University

Washington University

Wayne State University

Woods Hole Oceanographic Institute

Yeshiva University, New York

See 7 CFR 3411.3 and the FY 2002 NRI program solicitation for complete details on programs and eligibility.

Funding Categories for FY 2002

The FY 2002 NRI program solicitation solicits proposals, subject to the availability of funds, for support of high priority research of importance to agriculture, forestry, and related environmental sciences, in the following research categories (ANTICIPATED FY 2002 (FY02) funding and ACTUAL FY 2001 (FY01) funding, rounded to the $0.1M, follows in parentheses):

• Natural Resources and the Environment (FY02: $16.3M, FY01: $16.3M)

• Nutrition, Food Quality, and Health (FY02: $16.7M, FY01: $16.7M)

• Plant Systems (FY02: $32.3M, FY01: $32.3M)

• Animal Systems (FY02: $22.9M, FY01: $22.9M)

• Markets, Trade, and Policy (FY02: $3.6M, FY01: $3.6M)

• New Products and Processes (FY02: $6.5M, FY01: $6.5M)

Support for research opportunities listed below may be derived from one or more of the above funding categories based on the nature of the scientific topic to be supported. In addition, the funds described above may be used to fund proposals submitted to supplementary NRI Program Descriptions and/or solicitations for multiagency programs in which the NRI is participating.

Pursuant to 7 U.S.C. 450i(b)(10), no less than 10 percent (FY02: $9.8M, FY01: $9.8M) of the available funds listed above will be made available for Agricultural Research Enhancement Awards (excluding New Investigator Awards), and no more than 2 percent (FY02: $1.9M, FY01: $1.9M) of the available funds listed above will be made available for equipment grants. Further, no less than 30 percent (FY02: $29.5M, FY01: $29.5M) of the funds listed above shall be made available for grants for research to be conducted by multidisciplinary teams, and no less than 40 percent (FY02: $39.4M, FY01: $39.4M) of the funds listed above shall be made available for grants for mission-linked systems research.

CSREES is prohibited from paying indirect costs exceeding 19 per centum of the total Federal funds provided under each award on competitively awarded research grants (7 U.S.C. 3310). An alternative method of calculation of this limitation is to multiply total direct costs by 23.456 percent.

Strategic Issues

The NRI includes a broad portfolio of programs that address critical agricultural research needs. The NRI has now also identified two strategic issues where a robust investment in science will accelerate the generation of critically needed agricultural solutions. The issues are: Agricultural Security and Safety Through Functional Genomics and New and Re-Emerging Disease and Pest Threats. It is anticipated that up to $25 million (from the six funding categories) will be available for awards in FY 2002 for each of these issues, contingent upon the quality of the proposals received and the availability of funds. Both of these high priority issues cut across research programs in the NRI divisions and are directly applicable to a broad agricultural and consumer spectrum. Expectations are that these strategic issues will exist within the NRI for a minimum of 3-5 years. Clearly there are more than two strategic issues warranting increased emphasis, and which are currently supported by individual NRI programs. Dependent on future funding, additional strategic issues may be possible in future years.

Research proposed for these issues must be appropriate to one of the existing NRI programs listed under Research Opportunities. A separate peer review panel will not be assembled to review proposals addressing strategic issues. Numerous NRI programs address various components of these issues.

Research Opportunities

The funds appropriated as listed above will be used to support research grants in the following areas:

Natural Resources and the Environment

Plant Responses to the Environment

Managed Ecosystems

Soils and Soil Biology

Watershed Processes and Water Resources

Nutrition, Food Safety, and Health

Improving Human Nutrition for Optimal Health

Food Safety

Epidemiological Approaches for Food Safety

Animals

Animal Reproduction

Animal Growth and Nutrient Utilization

Animal Genome and Genetic Mechanisms

Animal Health and Well-Being

Biology and Management of Pests and Beneficial Organisms

Entomology and Nematology

Biologically Based Pest Management

Biology of Plant-Microbe Associations

Biology of Weedy and Invasive Plants

Plants

Plant Genetic Mechanisms

Plant Growth and Development

Plant Biochemistry

Markets, Trade, and Rural Development

Markets and Trade

Rural Development

Enhancing Value and Use of Agricultural and Forest Products

Value-Added Products Research

Food Characterization/Process/Product Research

Non-Food Characterization/Process/Product Research

Application Materials

This notice does not constitute the FY 2002 NRI program solicitation. Those wishing to apply for a grant under this program should obtain a copy of the FY 2002 NRI program solicitation, which is titled the “NRI Program Description and Guidelines for Proposal Preparation,” and a copy of the CSREES “Application Forms”. The NRI Program Description and Guidelines for Proposal Preparation and the CSREES “Application Forms” (May 2001) contain the information and materials necessary to prepare and submit a proposal and are available on the CSREES web site (www.reeusda.gov) under Funding Opportunities. CSREES encourages the use of these electronic documents. However, if necessary, paper copies of these application materials may be obtained by sending an e-mail with your name, complete mailing address (not e-mail address), phone number, and materials that you are requesting to psb@reeusda.gov. Materials will be mailed to you (not e-mailed) as quickly as possible. Alternatively, paper copies may be obtained by writing or calling the office indicated below.

Proposal Services Unit, Office of Extramural Programs, Cooperative State Research, Education, and Extension Service, U.S. Department of Agriculture, STOP 2245, 1400 Independence Ave., S.W., Washington, DC. 20250-2245, Telephone: (202) 401-5048.

Electronic Subscription to NRI Documents

The NRI has set up a mailserver which will notify subscribers when publications such as its Program Description or Abstracts of Funded Research are available electronically on the World Wide Web. Subscribers will not receive the document itself, but instead will receive an e-mail containing an announcement regarding the document's availability on the NRI home page.

To subscribe:

Send an e-mail message to: majordomo@reeusda.gov. In the body of the message, include only the words: subscribe nri-epubs.

To unsubscribe:

Send an e-mail message to: majordomo@reeusda.gov. In the body of the message, include only the words: unsubscribe nri-epubs.

Please note that this is not a forum. Messages, other than those related to subscription, cannot be posted to this address.

NRI Deadline Dates

The following fixed dates have been established for proposal submission deadlines within the NRI. To be considered for funding in any fiscal year, proposals must be transmitted by the date listed below (as indicated by postmark or date on courier bill of lading). When the deadline date falls on a weekend or Federal holiday, transmission must be made by the following business day.

Programs offered in any fiscal year depend on availability of funds and deadlines may be delayed due to unforeseen circumstances. Consult the pertinent NRI notice in the Federal Register, the NRI Program Description, or the NRI home page (www.reeusda.gov/nri) for up-to-date information.

Postmarked dates | Program codes | Program areas
November 15 | 22.1 | Plant Responses to the Environment
| 23.1 | Managed Ecosystems
| 25.0 | Soils and Soil Biology
| 26.0 | Watershed Processes and Water Resources
| 31.0 | Improving Human Nutrition for Optimal Health
| 51.9 | Biology of Weedy and Invasive Plants
December 15 | 52.2 | Plant Genetic Mechanisms
| 53.0 | Plant Growth and Development
| 61.0 | Markets and Trade
| 62.0 | Rural Development
| 71.1 | Food Characterization/Process/Product Research
| 71.2 | Non-Food Characterization/Process/Product Research
January 15 | 32.0 | Food Safety
| 32.1 | Epidemiological Approaches for Food Safety
| 41.0 | Animal Reproduction
| 44.0 | Animal Health and Well-Being
| 51.2 | Entomology and Nematology
| 51.7 | Biological Control
| 51.8 | Biology of Plant-Microbe Associations
February 15 | 42.0 | Animal Growth and Nutrient Utilization
| 43.0 | Animal Genome and Genetic Mechanisms
| 54.3 | Plant Biochemistry

Done at Washington, D.C., this 9th day of August 2001.
George E. Cooper,
Acting Administrator, Cooperative State Research, Education, and Extension Service.

[FR Doc. 01-20632 Filed 8-15-01; 8:45 am]

BILLING CODE 3410-22-P